DEPARTMENT OF THE INTERIOR

National Park Service

Final Environmental Impact Statement/General Management Plan, Mount Rainier National Park, Pierce and Lewis Counties, WA; Notice of Availability

SUMMARY: Pursuant to section 102(2)(C) the National Environmental Policy Act of 1969, the National Park Service announces the availability of a Final Environmental Impact Statement and General Management Plan (FEIS/GMP) for Mount Rainier National Park, Washington. Upon approval, the GMP will serve as a “blueprint” to guide park managers in implementing park programs and management activities for Mount Rainier National Park over the next 15-20 years.

SUPPLEMENTARY INFORMATION: The FEIS/GMP identifies and analyzes three alternatives for managing resources and visitors in Mount Rainier National Park. The “no-action” alternative is a continuation of the present management course regarding the management of visitor use and facilities. The National Park Service's preferred alternative (Alternative 2) would provide a range of high-quality visitor experiences and improve stewardship of park resources. The primary goals of this alternative are to better manage peak-period visitation so that it does not adversely affect park resources and visitor experiences, and encourage more off-peak use of the park. Alternative 3 would offer a different combination of visitor opportunities than those offered in the preferred alternative, while still protecting resources. None of the alternatives would propose major new developments within the park, and no park resources or values would be impaired.

The FEIS/GMP evaluates the environmental consequences of the preferred alternative and the other alternatives on natural resources (e.g., air and water quality, soils and vegetation, special status species), geologic (volcanic and nonvolcanic) hazards, cultural resources (e.g., archeological resources, ethnographic resources), visitor experiences (e.g., visitor access, the range of visitor activities), Wilderness, and the socioeconomic environment (e.g., regional context, gateway communities). A range of mitigation measures appropriate to each alternative are identified and evaluated. It was determined that Alternative 2 is the Aenvironmentally preferred” alternative.

Public Comment: A Notice of Intent to prepare an EIS was published in the Federal Register on September 27, 1994. During the subsequent scoping phase leading to development of the Draft EIS, the NPS conducted six public meetings. The results of these meetings were published in the first of a series of public newsletters (Newsletter 1 was distributed during winter 1995). Also throughout the conservation planning and environmental impact analysis process, numerous county, state and federal agency meetings and consultations with five Tribes were conducted. A Notice of Availability of the Draft EIS/GMP was published in the Federal Register on November 20, 2000; the document was on public review through February 9, 2001. The NPS received 143 written responses and many oral comments during seven public meetings held in various Washington towns and cities; all were duly considered in preparing the FEIS/GMP. All comments obtained are filed in the administrative record.

ADDRESSES: Copies of the FEIS/GMP are available from the Superintendent, Mount Rainier National Park, Tahoma Woods, Star Route, Ashford, Washington 98304-9751; (360) 589-2211. Public reading copies of the FEIS/GMP will also be available for review at the following locations:

Office of the Superintendent, Tahoma Woods, Mount Rainier National Park, Ashford, Washington 98304-9751; Telephone (360) 589-2211.

NPS Library, Columbia Cascades Support Office, 909 First Avenue South, Seattle, WA 98104-1060; Telephone: (206) 220-4114.

Office of Public Affairs, National Park Service, Department of the Interior, 18th and C Streets NW., Washington, DC 20240; Telephone: (202) 208-6843.

If individuals responding to this Notice request that their name or and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision: A Record of Decision may be approved by the Regional Director, Pacific West Region, no sooner than 30 days after publication by the Environmental Protection Agency of the Notice of filing of this Final EIS in the Federal Register. The official responsible for the final decision is the Regional Director; subsequently the official responsible for implementation of the plan is the Superintendent, Mt. Rainier National Park.

Dated: October 25, 2001.
Martha K. Leicester,
Acting Regional Director, Pacific West Region.

[FR Doc. 01-31398 Filed 12-20-01; 8:45 am]

BILLING CODE 4310-70-P